NATIONAL AERONAUTICS AND SPACE ADMINISTRATION

[Notice: (20-052)]

Updates to Centennial Challenges Cube Quest Challenge

AGENCY: National Aeronautics and Space Administration (NASA).

ACTION: Notice of updates.

SUMMARY: The Cube Quest (CQ) Challenge is scheduled and teams that wish to compete in the in-space competition may now register. New teams are responsible for securing a launch provider for their candidate CubeSat. Centennial Challenges is a program of prize competitions to stimulate innovation in technologies of interest and value to NASA and the nation. The Cube Quest Challenge is a prize competition designed to encourage development of new technologies or application of existing technologies in unique ways to advance CubeSat communication and propulsion systems. NASA is providing the prize purse.

DATES: Challenge registration opened on December 2, 2014. The In-Space Competition starts when the team's CubeSat is deployed. The In-Space Competition ends exactly 365 competition days after team's CubeSat deployment, or 365 days after the Artemis-I launch, whichever occurs first.

ADDRESSES: The Cube Quest Challenge will be conducted in the cis-lunar and trans-lunar locations in space.

FOR FURTHER INFORMATION CONTACT: To register for or get additional information regarding the Cube Quest Challenge, please visit: http://www.nasa.gov/cubequestchallenge. For general information on the NASA Centennial Challenges Program please visit: http://www.nasa.gov/challenges. General questions and comments regarding the program should be addressed to Monsi Roman, Centennial Challenges Program, NASA Marshall Space Flight Center, Huntsville, AL 35812. 256-544-4071; Email address: hq-stmd-centennialchallenges@mail.nasa.gov.

SUPPLEMENTARY INFORMATION: Competitors will design, build, and launch a 6U CubeSat to a lunar distance and/or beyond. Prizes will be awarded for: Placing the CubeSat into lunar orbit; transmitting the largest amount of data in both the 30 minute time frame from lunar orbit, or from a 3,000,000 km distance; transmitting the largest amount of data in a 28 day time frame from lunar orbit or a 3,000,000 distance; surviving the longest amount of time in lunar orbit or deep space environment (>3,000,000 distance); communicating from the furthest distance from Earth.

I. Prize Amounts: The total Cube Quest prize purse is $5,000,000 (five million U.S. dollars). Prizes will be offered for entries that meet specific requirements detailed in the Rules.

II. Rules and Eligibility: The complete rules and eligibility requirements for the Cube Quest Challenge can be found at: http://www.nasa.gov/cubequest.

Cheryl Parker,
Federal Register Liaison Officer.

[FR Doc. 2020-12785 Filed 6-12-20; 8:45 am]

BILLING CODE 7510-13-P